DEPARTMENT OF EDUCATION

Applications for New Awards; Jacob K. Javits Gifted and Talented Students Education Program

AGENCY: Office of Elementary and Secondary Education, Department of Education.

ACTION: Notice.

SUMMARY: The Department of Education (Department) is issuing a notice inviting applications for new awards for fiscal year (FY) 2022 for the Jacob K. Javits Gifted and Talented Students Education (Javits) program, Assistance Listing Number 84.206A. This notice relates to the approved information collection under the Office of Management and Budget (OMB) control number 1894-0006.

DATES:

Applications Available: February 16, 2022.

Deadline for Notice of Intent To Apply: March 8, 2022.

Deadline for Transmittal of Applications: April 4, 2022.

Deadline for Intergovernmental Review: June 1, 2022.

ADDRESSES: For the addresses for obtaining and submitting an application, please refer to our Common Instructions for Applicants to Department of Education Discretionary Grant Programs, published in the Federal Register on December 27, 2021 (86 FR 73264) and available at www.federalregister.gov/d/2021-27979. Please note that these Common Instructions supersede the version published on February 13, 2019, and, in part, describe the transition from the requirement to register in SAM.gov a Data Universal Numbering System (DUNS) number to the implementation of the Unique Entity Identifier (UEI). More information on the phase-out of DUNS numbers is available at https://www2.ed.gov/about/offices/list/ofo/docs/unique-entity-identifier-transition-fact-sheet.pdf.

FOR FURTHER INFORMATION CONTACT: M. Jeanette Horner-Smith, U.S. Department of Education, 400 Maryland Avenue SW, Room 3E252, Washington, DC 20202-6450. Telephone: (202) 453-6661. Email: Mildred.Horner-Smith@ed.gov or, Jennifer Brianas, U.S. Department of Education, 400 Maryland Avenue SW, Room 3E239, Washington, DC 20202-6450. Telephone: (202) 401-0299. Email: Jennifer.Brianas@ed.gov.

If you use a telecommunications device for the deaf (TDD) or a text telephone (TTY), call the Federal Relay Service (FRS), toll free, at 1-800-877-8339.

Pre-Application Meeting Information: The Department will hold a pre-application meeting via Microsoft Teams for prospective applicants. For information about the pre-application meeting, visit the Javits website at: https://oese.ed.gov/offices/office-of-discretionary-grants-support-services/well-rounded-education-programs/jacob-k-javits-gifted-and-talented-students-education-program/.

SUPPLEMENTARY INFORMATION:

Full Text of Announcement

I. Funding Opportunity Description

Purpose of Program: The Javits program supports evidence-based ¹ research, demonstration projects, innovative strategies, and similar activities designed to build and enhance the ability of elementary schools and secondary schools nationwide to identify gifted and talented students and meet their special educational needs. A major emphasis of the program is on identifying and serving students traditionally underrepresented in gifted and talented programs (including economically disadvantaged individuals, individuals who are English learners, and children with disabilities), including the training of personnel in the identification and education of gifted and talented students and in the use, where appropriate, of gifted and talented services, materials, and methods, for all students.

¹ Terms defined in this notice are italicized.

Background: Through this competition, the Department seeks to increase the focus on students who are traditionally underserved and underrepresented in gifted and talented programs by funding projects that are designed to develop new information that assists schools in identifying, and providing services to, gifted and talented students (including economically disadvantaged individuals, individuals who are English learners, and children with disabilities) who may not be identified and served through traditional assessment methods.

Schools and districts have an opportunity to better identify and serve the educational needs of children with disabilities who are gifted and talented. According to the Report on the Condition of Education 2021 from the National Center for Education Statistics (NCES), approximately 7.3 million students (ages 3 through 21) received special education services under the Individuals with Disabilities Education Act (IDEA) in school year 2019-20. Based on the NCES data, the most common category of children with disabilities receiving IDEA services are students with learning disabilities.² Unfortunately, researchers have been unable to collect accurate data on the number of children with disabilities who are gifted and talented largely because of the unique characteristics of this group of students. Research has also demonstrated that teachers and administrators may struggle to identify gifted and talented children with disabilities because the disability could mask the giftedness or vice versa.³

² Irwin, V., Zhang, J., Wang, X., Hein, S., Wang, K., Roberts, A., York, C., Barmer, A., Bullock Mann, F., Dilig, R., and Parker, S. (2021). Report on the condition of education 2021 (NCES 2021-144). U.S. Department of Education. Washington, DC: National Center for Education Statistics. Retrieved February 4, 2022 from https://nces.ed.gov/pubsearch/pubsinfo.asp?pubid=2021144.

³ Beckmann, E., & Minnaert, A. (2018). Non-cognitive characteristics of gifted students with learning disabilities: An in-depth systematic review. Frontiers in Psychology, 9(504). https://doi.org/10.3389/fpsyg.2018.00504.

The use of appropriate assessments can help identify gifted and talented students who are children with disabilities and measure not only improvements in academic achievement but growth and development in other areas, such as social and emotional development, critical thinking, and behavioral skills. Appropriate monitoring and continuous assessments are necessary elements of a successful strategy for addressing the needs of gifted and talented students. Cao, Jung and Lee (2017) list a number of assessments that are typically used to identify gifted and talented students, such as ability tests, achievement tests, norm-referenced achievement tests, performance-based tests, and dynamic assessments.⁴

⁴ Cao, T. H., Jung, J. Y., & Lee, J. (2017). Assessment in gifted education: A review of the literature from 2005 to 2016. Journal of Advanced Academics, 28(3), 163-203. https://doi.org/10.1177/1932202X17714572.

Some of these traditional methods of assessing gifted and talented students may be limited in their current form in reflecting the needs of underrepresented groups. Nontraditional assessment methods can provide comprehensive analyses that reduce bias related to the student's education, background, or culture and provide greater opportunities for identifying gifted and talented students who are underserved (including students who are economically disadvantaged, individuals who are English learners, and children with disabilities) than traditional assessment methods may afford. Additionally, there are nontraditional assessment methods that focus on changes to student performance over time, rather than student performance at a single point in time, such as process-oriented assessments that evaluate a student's performance of an actual task rather than an output.

The absolute priority in this notice requires applicants to develop “new information” that assists schools in the identification of, and provision of services to, gifted and talented students (including economically disadvantaged individuals, individuals who are English learners, and children with disabilities) who may not be identified and served through traditional assessment methods. In proposing projects that would develop “new information,” we encourage applicants to propose nontraditional and nondiscriminatory methods of identifying and teaching gifted and talented students, such as utilizing a combination of valid and reliable assessments; process-oriented and performance-based assessments (e.g., portfolios of the student's work over a period of time, open-ended essays, project work that involves collaboration with peers, and artistic and musical skills and abilities); behavioral characteristic checklists; and interviews with teachers, family members, and community members who are familiar with the student's abilities and performance.

Competitive Preference Priority 1 focuses on training personnel to identify and educate gifted and talented students who are children with disabilities. Competitive Preference Priority 2 emphasizes the importance of utilizing nontraditional methods for assessing gifted and talented students, particularly as they relate to the identification of, and provision of services to, gifted and talented students who are children with disabilities, because traditional assessment methods, on their own, may not provide a complete evaluation of a potential gifted and talented student's knowledge, skills and abilities and could potentially lead to the misidentification of a gifted and talented child with a disability.

Another important goal of the Javits program is to increase equity in identifying and providing services to gifted and talented students from underrepresented groups.⁵ In his research, Grissom (2016) found that underserved students, such as Black and Hispanic students, are less likely to be identified as gifted and talented, in part, because many schools in low socio-economic status communities do not have gifted and talented programs. Concomitantly, Grissom (2016) provides evidence that suggests Black and Hispanic students excel in gifted and talented programs in schools where there are larger numbers of educators who are also Black and Hispanic.⁶

⁵ WestEd (October 28, 2021). Addressing the social and emotional assets and needs of underrepresented gifted and talented students. Jacob K. Javits Gifted and Talented Students Project Director's Meeting, [PPT] pp.1-39. Center to Improve Social and Emotional Learning and School Safety.

⁶ Grissom, J.A., & Redding, C. (2016). Discretion and Disproportionality: Explaining the Underrepresentation of High-Achieving Students of Color in Gifted Programs. AERA Open. https://doi.org/10.1177/2332858415622175.

Competitive Preference Priority 3 addresses projects designed to increase the number and proportion of experienced, fully certified, in-field, and effective educators, and educators from traditionally underrepresented backgrounds or the communities they serve, in order to support the needs of gifted and talented students who are traditionally underserved students. In this context, with respect to in-field educators, we encourage applicants to propose projects that are designed to increase the number and proportion of experienced and effective educators who are certified to identify and teach gifted and talented students.

Priorities: This notice contains one absolute priority and three competitive preference priorities. The absolute priority and Competitive Preference Priority 2 are from section 4644(f)(1)(B) of the Elementary and Secondary Education Act of 1965, as amended (ESEA) (20 U.S.C. 7294(f)(1)(B)). Competitive Preference Priority 1 is from section 4644(b)(1) of the ESEA (20 U.S.C. 7294(b)(1)), and Competitive Preference Priority 3 is from the Final Priorities and Definitions—Secretary's Supplemental Priorities and Definitions for Discretionary Grants Programs, published in the Federal Register on December 10, 2021 (86 FR 70612) (Supplemental Priorities).

Absolute Priority: For FY 2022 and any subsequent year in which we make awards from the list of unfunded applications from this competition, this priority is an absolute priority. Under 34 CFR 75.105(c)(3), we consider only applications that meet this absolute priority.

This priority is:

Identification of, and Provision of Services to, Gifted and Talented Students Who May Not Be Identified through Traditional Assessment Methods.

Projects designed to develop new information that assists schools in the identification of, and provision of services to, gifted and talented students (including economically disadvantaged individuals, individuals who are English learners, and children with disabilities) who may not be identified and served through traditional assessment methods.

Competitive Preference Priorities: For FY 2022 and any subsequent year in which we make awards from the list of unfunded applications from this competition, these priorities are competitive preference priorities. Under 34 CFR 75.105(c)(2)(i), we award up to an additional 5 points to an application, depending on how well the application meets Competitive Preference Priority 1, Competitive Preference Priority 2, or Competitive Preference Priority 3, for a maximum of an additional 15 points.

These priorities are:

Competitive Preference Priority 1—Training Personnel in the Identification and Education of Gifted and Talented Students Who are Children with Disabilities. (up to 5 points)

Projects that include providing training to personnel in schools served under the project to assist such personnel in identifying and educating gifted and talented students who are children with disabilities. Such training may include, but is not limited to, workshops or programs that teach effective instructional and communication techniques, classroom practices and culture, and other strategies that support the social, emotional, developmental and academic needs of gifted and talented students who are children with disabilities.

Competitive Preference Priority 2—Identification of, and Provision of Services to, Gifted and Talented Students Who are Children with Disabilities. (up to 5 points)

Projects that include developing new information, that assists schools in the identification of, and provision of services to, gifted and talented students who are children with disabilities who may not be identified through traditional assessment methods.

Competitive Preference Priority 3—Promoting Equity in Student Access to Educational Resources and Opportunities. (up to 5 points)

Projects designed to promote educational equity and adequacy in resources and opportunity for underserved students—

(1) In one or more of the following educational settings:

(i) Middle school.

(ii) Elementary school.⁷

⁷ The Javits program supports gifted and talented programs and their students in elementary schools and secondary schools. In States in which elementary education includes preschool, preschool students may receive services through the Javits program.

(iii) High school.

(iv) Career and technical education programs.

(v) Out-of-school-time settings;

(2) That examine the sources of inequity and inadequacy and implement responses, and that may include one or more of the following:

(i) Rigorous, engaging, and well-rounded (e.g., that include music and the arts) approaches to learning that are inclusive with regard to race, ethnicity, culture, language, and disability status and prepare students for college, career, and civic life, including one or more of the following:

(A) Student-centered learning models that may leverage technology to address learner variability (e.g., universal design for learning, K-12 competency-based education, project-based learning, or hybrid/blended learning) and provide high-quality learning content, applications, or tools.

(B) Middle school courses or projects that prepare students to participate in advanced coursework in high school.

(C) Advanced courses and programs, including dual enrollment and early college programs.

(D) Project-based and experiential learning, including service and work-based learning.

(E) High-quality career and technical education courses, pathways, and industry-recognized credentials that are integrated into the curriculum.

(F) Science, technology, engineering, and mathematics (STEM), including computer science coursework.

(ii) Increasing the number and proportion of experienced, fully certified, in-field, and effective educators, and educators from traditionally underrepresented backgrounds or the communities they serve, to ensure that underserved students have educators from those backgrounds and communities and are not taught at disproportionately higher rates by uncertified, out-of-field, and novice teachers compared to their peers.⁸

⁸ All strategies to increase racial diversity of educators must comply with applicable law, including Title VI of the Civil Rights Act of 1964.

Program Requirements: These program requirements are from sections 4644(c) and (g) of the ESEA (20 U.S.C. 7294(c) and (g)). For FY 2022 and any subsequent year in which we make awards from the list of unfunded applications, the following program requirements apply:

Uses of Funds: Programs and projects funded under this competition may include any of the following:

(a) Conducting evidence-based research on methods and techniques for identifying and teaching gifted and talented students and for using gifted and talented programs and methods to identify and provide the opportunity for all students to be served, particularly low-income and at-risk students.

(b) Establishing and operating programs and projects for identifying and serving gifted and talented students, including innovative methods and strategies (such as summer programs, mentoring programs, peer tutoring programs, service-learning programs, and cooperative learning programs involving business, industry, and education) for identifying and educating students who may not be served by traditional gifted and talented programs.

(c) Providing technical assistance and disseminating information, which may include how gifted and talented programs and methods may be adapted for use by all students, particularly low-income and at-risk students. (Section 4644(c) of the ESEA).

Equitable Participation of Private School Students and Teachers: Grant recipients under this program must provide for the equitable participation of students and teachers in private nonprofit elementary schools and secondary schools, including the participation of teachers and other personnel in professional development programs serving such students. (Section 4644(g) of the ESEA).

Application Requirements: These application requirements are from section 4644(b) and (c) of the ESEA (20 U.S.C. 7294(b) and (c)). For FY 2022 and any subsequent year in which we make awards from the list of unfunded applications from this competition, the following application requirements apply:

Each application must describe how—

(1) The proposed identification methods, as well as gifted and talented services, materials, and methods, can be adapted, if appropriate, for use by all students;

(2) The proposed programs can be evaluated; and

(3) The proposed project will provide for training of personnel in the identification and education of gifted and talented students and in the use, where appropriate, of gifted and talented services, materials, and methods for all students.

Definitions: These definitions are from section 8101 of the ESEA (20 U.S.C. 7801), 34 CFR 77.1, and the Supplemental Priorities. These definitions apply to the FY 2022 Javits grant competition and any subsequent year in which we make awards from the list of unfunded applications from this competition.

Child with a disability (or children with disabilities), unless otherwise indicated, has the same meaning given that term in section 602 of IDEA, which is—

(1) A child—

(i) With intellectual disabilities, hearing impairments (including deafness), speech or language impairments, visual impairments (including blindness), serious emotional disturbance (referred to in the IDEA as “emotional disturbance”), orthopedic impairments, autism, traumatic brain injury, other health impairments, or specific learning disabilities; and

(ii) Who, by reason thereof, needs special education and related services.

(2) The term “child with a disability,” for a child aged three through nine (or any subset of that age range, including ages three through five), may, at the discretion of the State and the local educational agency, include a child—

(i) Experiencing developmental delays, as defined by the State and as measured by appropriate diagnostic instruments and procedures, in one or more of the following areas: physical development; cognitive development; communication development; social or emotional development; or adaptive development; and

(ii) Who, by reason thereof, needs special education and related services. (Section 8101(4) of the ESEA).

Competency-based education (also called proficiency-based or mastery-based learning) means learning based on knowledge and skills that are transparent and measurable. Progression is based on demonstrated mastery of what students are expected to know (knowledge) and be able to do (skills), rather than seat time or age. (Supplemental Priorities).

Disconnected youth means an individual, between the ages 14 and 24, who may be from a low-income background, experiences homelessness, is in foster care, is involved in the justice system, or is not working or not enrolled in (or at risk of dropping out of) an educational institution. (Supplemental Priorities).⁹

⁹ In accordance with sections 4644(a) and 8101(45) of the ESEA, disconnected youth may only receive Javits program services through secondary schools. See 20 U.S.C. 7294(a) and 7801(45).

Educator means an individual who is an early learning (as defined in the Supplemental Priorities) educator, teacher, principal or other school leader, specialized instructional support personnel (e.g., school psychologist, counselor, school social worker, early intervention service personnel), paraprofessional, or faculty. (Supplemental Priorities).

Elementary school means a nonprofit institutional day or residential school, including a public elementary charter school, that provides elementary education, as determined under State law. (Section 8101(19) of the ESEA).

English learner, unless otherwise indicated, when used with respect to an individual, means an individual—

(1) Who is aged three through 21;

(2) Who is enrolled or preparing to enroll in an elementary school or secondary school;

(3)(i) Who was not born in the United States or whose native language is a language other than English;

(ii)(A) Who is a Native American or Alaska Native, or a native resident of the outlying areas; and

(B) Who comes from an environment where a language other than English has had a significant impact on the individual's level of English language proficiency; or

(iii) Who is migratory, whose native language is a language other than English, and who comes from an environment where a language other than English is dominant; and

(4) Whose difficulties in speaking, reading, writing, or understanding the English language may be sufficient to deny the individual—

(i) The ability to meet the challenging State academic standards;

(ii) The ability to successfully achieve in classrooms where the language of instruction is English; or

(iii) The opportunity to participate fully in society. (Section 8101(20) of the ESEA).

Evidence-based, when used with respect to a State, local educational agency, or school activity, means an activity, strategy, or intervention that demonstrates a statistically significant effect on improving student outcomes or other relevant outcomes based on—

(1) Strong evidence from at least one well designed and well-implemented experimental study;

(2) Moderate evidence from at least one well-designed and well-implemented quasi-experimental study; or

(3) Promising evidence from at least one well-designed and well implemented correlational study with statistical controls for selection bias. (Section 8101(21) of the ESEA).

Experimental study means a study that is designed to compare outcomes between two groups of individuals (such as students) that are otherwise equivalent except for their assignment to either a treatment group receiving a project component or a control group that does not. Randomized controlled trials, regression discontinuity design studies, and single-case design studies are the specific types of experimental studies that, depending on their design and implementation (e.g., sample attrition in randomized controlled trials and regression discontinuity design studies), can meet What Works Clearinghouse (WWC) standards without reservations as described in the What Works Clearinghouse Handbooks (WWC Handbooks):

(1) A randomized controlled trial employs random assignment of, for example, students, teachers, classrooms, or schools to receive the project component being evaluated (the treatment group) or not to receive the project component (the control group).

(2) A regression discontinuity design study assigns the project component being evaluated using a measured variable (e.g., assigning students reading below a cutoff score to tutoring or developmental education classes) and controls for that variable in the analysis of outcomes.

(3) A single-case design study uses observations of a single case (e.g., a student eligible for a behavioral intervention) over time in the absence and presence of a controlled treatment manipulation to determine whether the outcome is systematically related to the treatment. (34 CFR 77.1).

Gifted and talented, when used with respect to students, children, or youth, means students, children, or youth who give evidence of high achievement capability in areas such as intellectual, creative, artistic, or leadership capacity, or in specific academic fields, and who need services or activities not ordinarily provided by the school in order to fully develop those capabilities. (Section 8101(27) of the ESEA).

Military- or veteran-connected student means one or more of the following:

(1) A student enrolled in preschool through grade 12 or a student enrolled in career and technical education who has a parent or guardian who is a member of the uniformed services (as defined by 37 U.S.C. 101), in the Army, Navy, Air Force, Marine Corps, Coast Guard, Space Force, National Guard, Reserves, National Oceanic and Atmospheric Administration, or Public Health Service or is a veteran of the uniformed services with an honorable discharge (as defined by 38 U.S.C. 3311).

(2) A student who is a member of the uniformed services, a veteran of the uniformed services, or the spouse of a service member or veteran.

(3) A student enrolled in preschool through grade 12 or a student enrolled in career and technical education who has a parent or guardian who is a veteran of the uniformed services (as defined by 37 U.S.C. 101). (Supplemental Priorities).

Moderate evidence means that there is evidence of effectiveness of a key project component in improving a relevant outcome for a sample that overlaps with the populations or settings proposed to receive that component, based on a relevant finding from one of the following:

(1) A practice guide prepared by the WWC using version 2.1, 3.0, 4.0, or 4.1 of the WWC Handbooks reporting a “strong evidence base” or “moderate evidence base” for the corresponding practice guide recommendation;

(2) An intervention report prepared by the WWC using version 2.1, 3.0, 4.0, or 4.1 of the WWC Handbooks reporting a “positive effect” or “potentially positive effect” on a relevant outcome based on a “medium to large” extent of evidence, with no reporting of a “negative effect” or “potentially negative effect” on a relevant outcome; or

(3) A single experimental study or quasi-experimental design study reviewed and reported by the WWC using version 2.1, 3.0, 4.0, or 4.1 of the WWC Handbooks, or otherwise assessed by the Department using version 4.1 of the WWC Handbooks, as appropriate, and that—

(i) Meets WWC standards with or without reservations;

(ii) Includes at least one statistically significant and positive (i.e., favorable) effect on a relevant outcome;

(iii) Includes no overriding statistically significant and negative effects on relevant outcomes reported in the study or in a corresponding WWC intervention report prepared under version 2.1, 3.0, 4.0, or 4.1 of the WWC Handbooks; and

(iv) Is based on a sample from more than one site (e.g., State, county, city, school district, or postsecondary campus) and includes at least 350 students or other individuals across sites. Multiple studies of the same project component that each meet requirements in paragraphs (3)(i), (ii), and (iii) of this definition may together satisfy this requirement in this paragraph (3)(iv). (34 CFR 77.1).

Project component means an activity, strategy, intervention, process, product, practice, or policy included in a project. Evidence may pertain to an individual project component or to a combination of project components (e.g., training teachers on instructional practices for English learners and follow-on coaching for these teachers). (34 CFR 77.1).

Promising evidence means that there is evidence of the effectiveness of a key project component in improving a relevant outcome, based on a relevant finding from one of the following:

(1) A practice guide prepared by WWC reporting a “strong evidence base” or “moderate evidence base” for the corresponding practice guide recommendation;

(2) An intervention report prepared by the WWC reporting a “positive effect” or “potentially positive effect” on a relevant outcome with no reporting of a negative effect” or “potentially negative effect” on a relevant outcome; or

(3) A single study assessed by the Department, as appropriate, that—

(i) Is an experimental study, a quasi-experimental design study, or a well-designed and well-implemented correlational study with statistical controls for selection bias (e.g., a study using regression methods to account for differences between a treatment group and a comparison group); and

(ii) Includes at least one statistically significant and positive (i.e., favorable) effect on a relevant outcome. (34 CFR 77.1).

Quasi-experimental design study means a study using a design that attempts to approximate an experimental study by identifying a comparison group that is similar to the treatment group in important respects.

This type of study, depending on design and implementation (e.g., establishment of baseline equivalence of the groups being compared), can meet WWC standards with reservations, but cannot meet WWC standards without reservations, as described in the WWC Handbooks. (34 CFR 77.1).

Relevant outcome means the student outcome(s) or other outcome(s) the key project component is designed to improve, consistent with the specific goals of the program. (34 CFR 77.1).

Secondary school means a nonprofit institutional day or residential school, including a public secondary charter school, that provides secondary education, as determined under State law, except that the term does not include any education beyond grade 12.

Strong evidence means that there is evidence of the effectiveness of a key project component in improving a relevant outcome for a sample that overlaps with the populations and settings proposed to receive that component, based on a relevant finding from one of the following:

(1) A practice guide prepared by the WWC using version 2.1, 3.0, 4.0, or 4.1 of the WWC Handbooks reporting a “strong evidence base” for the corresponding practice guide recommendation;

(2) An intervention report prepared by the WWC using version 2.1, 3.0, 4.0, or 4.1 of the WWC Handbooks reporting a “positive effect” on a relevant outcome based on a “medium to large” extent of evidence, with no reporting of a “negative effect” or “potentially negative effect” on a relevant outcome; or

(3) A single experimental study reviewed and reported by the WWC using version 2.1, 3.0, 4.0, or 4.1 of the WWC Handbooks, or otherwise assessed by the Department using version 4.1 of the WWC Handbook, as appropriate, and that—

(i) Meets WWC standards without reservations;

(ii) Includes at least one statistically significant and positive (i.e., favorable) effect on a relevant outcome;

(iii) Includes no overriding statistically significant and negative effects on relevant outcomes reported in the study or in a corresponding WWC intervention report prepared under version 2.1, 3.0, 4.0, or 4.1 of the WWC Handbooks; and

(iv) Is based on a sample from more than one site (e.g., State, county, city, school district, or postsecondary campus) and includes at least 350 students or other individuals across sites. Multiple studies of the same project component that each meet requirements in paragraphs (3)(i), (ii), and (iii) of this definition may together satisfy the requirement in this paragraph (3)(iv). (34 CFR 77.1).

Underserved student means a student (which includes students in K-12 programs and students in career and technical education, as appropriate) ¹⁰ in one or more of the following subgroups:

¹⁰ The Javits program supports gifted and talented programs and their students in elementary schools and secondary schools. For each of the subgroups of underserved students included in this definition, for the purpose of this program, we refer to those students who are in elementary schools and secondary schools, which includes students in preschool in those States in which elementary education includes preschool.

(1) A student who is living in poverty or is served by schools with high concentrations of students living in poverty.

(2) A student of color.

(3) A student who is a member of a federally recognized Indian Tribe.

(4) An English learner.

(5) A child or student with a disability.

(6) A disconnected youth.

(7) A technologically unconnected youth.

(8) A migrant student.

(9) A pregnant, parenting, or caregiving student.

(10) A student performing significantly below grade level.

(11) A military- or veteran-connected student.

For the purpose of the definition of underserved student only—

“Child or student with a disability” means children with disabilities as defined in section 602(3) of the Individuals with Disabilities Education Act (IDEA) (20 U.S.C. 1401(3)) and 34 CFR 300.8, or students with disabilities, as defined in the Rehabilitation Act of 1973 (29 U.S.C. 705(37), 705(202)(B)); and

“English learner” means an individual who is an English learner as defined in section 8101(20) of the ESEA, or an individual who is an English language learner as defined in section 203(7) of the Workforce Innovation and Opportunity Act. (Supplemental Priorities).

Universal design for learning means a scientifically valid framework for guiding educational practice that—

(1) Provides flexibility in the ways information is presented, in the ways students respond or demonstrate knowledge and skills, and in the ways students are engaged; and

(2) Reduces barriers in instruction, provides appropriate accommodations, supports, and challenges, and maintains high achievement expectations for all students including students with disabilities and students who are limited English proficient.¹¹ (Supplemental Priorities).

¹¹ See the definition of English learner in the Definitions section in this notice. The terms limited English proficient and English learner have the same meaning.

What Works Clearinghouse Handbooks (WWC Handbooks) means the standards and procedures set forth in the WWC Standards Handbook, Versions 4.0 or 4.1, and WWC Procedures Handbook, Versions 4.0 or 4.1, or in the WWC Procedures and Standards Handbook, Version 3.0 or Version 2.1 (all incorporated by reference, see 34 CFR 77.2). Study findings eligible for review under WWC standards can meet WWC standards without reservations, meet WWC standards with reservations, or not meet WWC standards. WWC practice guides and intervention reports include findings from systematic reviews of evidence as described in the WWC Handbooks documentation. (34 CFR 77.1).

Program Authority: Section 4644 of the ESEA (20 U.S.C. 7294).

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget (OMB) Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations in 34 CFR part 299. (e) The Supplemental Priorities.

Note: The regulations in 34 CFR part 79 apply to all applicants except federally recognized Indian Tribes.

Note: The regulations in 34 CFR part 86 apply only to institutions of higher education (IHEs).

II. Award Information

Type of Award: Discretionary grants.

Estimated Available Funds: The Administration has requested $13,500,000 for awards for the Javits program for FY 2022, of which we intend to use an estimated $6,600,000 for this competition. The actual level of funding, if any, depends on final congressional action. However, we are inviting applications to allow enough time to complete the grant process if Congress appropriates funds for this program.

Contingent upon the availability of funds and the quality of applications, we may make additional awards in FY 2023 and subsequent years from the list of unfunded applications from this competition.

Estimated Range of Awards: $450,000 to $730,000.

Estimated Average Size of Awards: $600,000.

Estimated Number of Awards: 9-15.

Note: The Department is not bound by any estimates in this notice.

Project Period: 60 months.

III. Eligibility Information

1. Eligible Applicants: To be considered for an award under this competition, an applicant must be one or more of the following:

(1) State educational agency;

(2) Local educational agency;

(3) Bureau of Indian Education;

(4) IHE;

(5) Other public agency; or

(6) Other private agency or organization.

2. a. Cost Sharing or Matching: This competition does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to the Cost Principles described in 2 CFR part 200, subpart E of the Uniform Guidance.

3. Subgrantees: A grantee under this competition may not award subgrants to entities to directly carry out project activities described in its application.

IV. Application and Submission Information

1. Application Submission Instructions: Applicants are required to follow the Common Instructions for Applicants to Department of Education Discretionary Grant Programs, published in the Federal Register on December 27, 2021 (86 FR 73264) and available at www.federalregister.gov/d/2021-27979, which contain requirements and information on how to submit an application. Please note that these Common Instructions supersede the version published on February 13, 2019, and, in part, describe the transition from the requirement to register in SAM.gov a DUNS number to the implementation of the UEI. More information on the phase-out of DUNS numbers is available at https://www2.ed.gov/about/offices/list/ofo/docs/unique-entity-identifier-transition-fact-sheet.pdf.

2. Submission of Proprietary Information: Given the types of projects that may be proposed in applications for the Javits program, your application may include business information that you consider proprietary. In 34 CFR 5.11(c) we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This program is subject to Executive Order 12372 and the regulations in 34 CFR part 79. Information about Intergovernmental Review of Federal Programs under Executive Order 12372 is in the application package for this competition.

4. Funding Restrictions: We reference regulations outlining funding restrictions in the Applicable Regulations section of this notice.

5. Recommended Page Limit: The application narrative is where you, the applicant, address the selection criteria that reviewers use to evaluate your application. We recommend that you (1) limit the application narrative to no more than 30 pages and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; the one-page abstract, resumes, bibliography, or letters of support. However, the recommended page limit does apply to all of the application narrative.

6. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name and a contact person's name and email address. Applicants that do not submit a notice of intent to apply may still apply for funding; applicants that do submit a notice of intent to apply are not bound to apply or bound by the information provided.

V. Application Review Information

1. Selection Criteria: The selection criteria for this competition are from 34 CFR 75.210 and are as follows:

(a) Need for the Project (up to 5 points).

The Secretary considers the need for the proposed project. In determining the need for the proposed project, the Secretary considers the extent to which specific gaps or weaknesses in services, infrastructure, or opportunities have been identified and will be addressed by the proposed project, including the nature and magnitude of those gaps or weaknesses.

(b) Quality of the Project Design (up to 30 points).

The Secretary considers the quality of the design of the proposed project. In determining the quality of the design of the proposed project, the Secretary considers the following factors:

(1) The extent to which the goals, objectives, and outcomes to be achieved by the proposed project are clearly specified and measurable;

(2) The extent to which the design of the proposed project is appropriate to, and will successfully address, the needs of the target population or other identified needs;

(3) The extent to which the proposed project is designed to build capacity and yield results that will extend beyond the period of Federal financial assistance;

(4) The extent to which the design of the proposed project reflects up-to-date knowledge from research and effective practice;

(5) The extent to which the proposed project is supported by promising evidence; and

(6) The extent to which performance feedback and continuous improvement are integral to the design of the proposed project.

(c) Quality of the Management Plan (up to 20 points).

The Secretary considers the quality of the management plan for the proposed project. In determining the quality of the management plan for the proposed project, the Secretary considers the following factors:

(1) The adequacy of the management plan to achieve the objectives of the proposed project on time and within budget, including clearly defined responsibilities, timelines, and milestones for accomplishing project tasks;

(2) The adequacy of procedures for ensuring feedback and continuous improvement in the operation of the proposed project; and

(3) The extent to which the time commitments of the project director and principal investigator and other key project personnel are appropriate and adequate to meet the objectives of the proposed project.

(d) Quality of Project Services (up to 30 points).

The Secretary considers the quality of the services to be provided by the proposed project.

(1) In determining the quality of the services to be provided by the proposed project, the Secretary considers the quality and sufficiency of strategies for ensuring equal access and treatment for eligible project participants who are members of groups that have traditionally been underrepresented based on race, color, national origin, gender, age, or disability.

(2) In addition, the Secretary considers the likely impact of the services to be provided by the proposed project on the intended recipients of those services.

(e) Quality of Project Personnel (up to 5 points).

The Secretary considers the quality of the personnel who will carry out the proposed project.

(1) In determining the quality of project personnel, the Secretary considers the extent to which the applicant encourages applications for employment from persons who are members of groups that have traditionally been underrepresented based on race, color, national origin, gender, age, or disability.

(2) In addition, the Secretary considers the following factors—

(i) The qualifications, including relevant training and experience, of the project director or principal investigator; and

(ii) The qualifications, including relevant training and experience, of key project personnel.

(f) Adequacy of Resources (up to 10 points).

The Secretary considers the adequacy of resources for the proposed project. In determining the adequacy of resources for the proposed project, the Secretary considers one or more of the following factors:

(1) The extent to which the budget is adequate to support the proposed project;

(2) The extent to which the costs are reasonable in relation to the objectives, design, and potential significance of the proposed project; and

(3) The extent to which the costs are reasonable in relation to the number of persons to be served and to the anticipated results and benefits.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this program the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with OMB's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: For the purposes of Department reporting under 34 CFR 75.110, the Department has established the following performance measures for the Javits program: (1) The number of students newly identified as gifted and talented under the program; (2) The number of underserved students newly identified as gifted and talented under the program; (3) The percentage of students newly identified as gifted and talented under the program who were served under the program; (4) The percentage of underserved students newly identified as gifted and talented under the program who were served by the program; (5) Of the students served under the program who were in tested grades, the percentage who made gains on State assessments in mathematics; (6) Of the students served under the program who were in tested grades, the percentage who made gains on State assessments in science; (7) Of the students served under the program who were in tested grades, the percentage who made gains on State assessments in reading; and (8) The number of teachers and other educators who received services that enable them to better identify and improve instruction for gifted and talented students.

All grantees will be expected to submit an annual performance report that includes data addressing these performance measures to the extent that they apply to the grantee's project.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Ruth E. Ryder,
Deputy Assistant Secretary for Policy and Programs, Office of Elementary and Secondary Education.

[FR Doc. 2022-03369 Filed 2-15-22; 8:45 am]

BILLING CODE 4000-01-P